DEPARTMENT OF VETERANS AFFAIRS

[OMB Control No. 2900—NEW]

Agency Information Collection Activity: Eating Disorders in Veterans: Prevalence, Comorbidity, Risk, and Healthcare Use

AGENCY: Veterans Health Administration, Department of Veterans Affairs.

ACTION: Notice.

SUMMARY: Veterans Health Administration, Department of Veterans Affairs (VA), is announcing an opportunity for public comment on the proposed collection of certain information by the agency. Under the Paperwork Reduction Act (PRA) of 1995, Federal agencies are required to publish notice in the Federal Register concerning each proposed collection of information, including each new collection, and allow 60 days for public comment in response to the notice.

DATES: Written comments and recommendations on the proposed collection of information should be received on or before August 27, 2018.

ADDRESSES: Submit written comments on the collection of information through Federal Docket Management System (FDMS) at www.Regulations.gov or to Brian McCarthy, Office of Regulatory and Administrative Affairs (10B4), Department of Veterans Affairs, 810 Vermont Avenue NW, Washington, DC 20420 or email to Brian.McCarthy4@va.gov. Please refer to “OMB Control No. 2900—NEW” in any correspondence. During the comment period, comments may be viewed online through FDMS.

FOR FURTHER INFORMATION CONTACT: Brian McCarthy at (202) 615-9241.

SUPPLEMENTARY INFORMATION: Under the PRA of 1995, Federal agencies must obtain approval from the Office of Management and Budget (OMB) for each collection of information they conduct or sponsor. This request for comment is being made pursuant to Section 3506(c)(2)(A) of the PRA.

With respect to the following collection of information, VHA invites comments on: (1) Whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Authority: 38 U.S.C., Part I, Chapter 5, Section 527.

Title: Eating Disorders in Veterans: Prevalence, Comorbidity, Risk, and Healthcare Use.

OMB Control Number: 2900—NEW.

Type of Review: New collection.

Abstract: Eating disorders (EDs), including anorexia nervosa, bulimia nervosa, and binge eating disorder, are deadly conditions that can be difficult to detect and treat. EDs are typically not screened for or treated within the VA healthcare system, possibly because many people believe that since Veterans are mostly male, they are not affected by these disorders. The Department of Defense recently put out a call for grants to investigate EDs in military service members and Veterans, and our proposal is currently under review. Our proposal also aligns with VA Health Services Research & Development funding Priority F (Women's Health) for Investigator-Initiated Research, which emphasizes investigating the unique needs of female Veterans. EDs are an issue for male and female Veterans; however, they disproportionately impact women. Third, our aims address the recommendations of the 2012 Women Veterans Task Force to resolve gaps in serving women Veterans. Further, Legal authority for this data collection is found under 38 U.S.C., Part I, Chapter 5, Section 527 that authorizes the collection of data that will allow measurement and evaluation of the Department of Veterans Affairs Programs, the goal of which is improved health care for Veterans.

Affected Public: Individuals and households.

Estimated Annual Burden:

Risk and Protective Factors for Eating Disorders and Healthcare Use Survey—1,750 hours.

Eating Disorder Examination—480 hours.

Estimated Average Burden per Respondent:

Risk and Protective Factors for Eating Disorders and Healthcare Use Survey—50 minutes.

Eating Disorder Examination—120 minutes.

Frequency of Response: Annually.

Estimated Number of Respondents:

Risk and Protective Factors for Eating Disorders and Healthcare Use Survey—2,100.

Eating Disorder Examination—240.

By direction of the Secretary.
Cynthia D. Harvey-Pryor,
Department Clearance Officer, Office of Quality, Privacy and Risk, Department of Veterans Affairs.

[FR Doc. 2018-13815 Filed 6-26-18; 8:45 am]

BILLING CODE 8320-01-P